DEPARTMENT OF HOUSING AND URBAN DEVELOPMENT

[Docket No. FR-4723-C-2A]

FY 2002 Super Notice of Funding Availability (SuperNOFA) for HUD's Discretionary Grants Programs for Fiscal Year 2002; Technical Corrections

AGENCY: Office of the Secretary, HUD.

ACTION: Super Notice of Funding Availability (SuperNOFA) for HUD's discretionary grant programs; technical corrections.

SUMMARY: On March 26, 2002, HUD published its Fiscal Year (FY) 2002 Super Notice of Funding Availability (SuperNOFA) for HUD's discretionary grant programs. This document makes certain technical corrections to the following programs: Continuum of Care Homeless Assistance; Youthbuild; Resident Opportunities and Self Sufficiency (ROSS) Program; Section 202 Supportive Housing for the Elderly Program; Section 811 Supportive Housing for Persons with Disabilities Program; Community Outreach Partnership Centers; Historically Black Colleges and Universities; Alaska Native/Native Hawaiian Institutions Assisting Communities Program; Tribal Colleges and Universities Program; Rural Housing and Economic Development; Lead Hazard Control; Healthy Homes and Lead Technical Studies; Healthy Homes Demonstration Program; Brownfields Economic Development Initiative; and Community Development Block Grant (CDBG) Program for Indian Tribes and Alaska Native Villages.

This document also extends the application due date for Alaska Native/Native Hawaiian Institutions Assisting Communities Program (AN/NHIAC) to July 20, 2002.

DATES: The application due date for the Alaska Native/Native Hawaiian Institutions Assisting Communities Program, the application due date has been extended to July 20, 2002. All other application due dates remain as published in the Federal Register of March 26, 2002.

FOR FURTHER INFORMATION CONTACT: For the Programs listed in this notice, please contact the office or individual listed under the “For Further Information” heading in the individual program section of the SuperNOFA, published on March 26, 2002. The application due date for AN/NHIAC is extended to July 20, 2002.

SUPPLEMENTARY INFORMATION: On March 26, 2002 (67 FR 13826), HUD published its Fiscal Year (FY) 2002 Super Notice of Funding Availability (SuperNOFA) for HUD's discretionary grant programs. The FY 2002 SuperNOFA announced the availability of approximately $2.2 billion in HUD program funds covering 41 grant categories within programs operated and administered by HUD offices.

This notice published in today's Federal Register makes certain corrections and clarifications to the funding availability announcements of the following programs: Continuum of Care Homeless Assistance; Youthbuild; Resident Opportunities and Self Sufficiency (ROSS) Program; Section 202 Supportive Housing for the Elderly Program; Section 811 Supportive Housing for Persons with Disabilities Program; Community Outreach Partnership Centers; Historically Black Colleges and Universities; Tribal Colleges and Universities Program; Rural Housing and Economic Development; Brownfield Economic Development Initiative; Lead Hazard Control; Healthy Homes and Lead Technical Studies; Healthy Homes Demonstration Program; and Community Development Block Grant (CDBG) Program for Indian Tribes and Alaska Native Villages.

Summary of Technical Corrections

A summary of the technical corrections that will be made by this document are as follows. The page numbering shown in bracket identifies where the individual funding availability announcement that is being corrected can be found in the March 26, 2002 SuperNOFA, and the page numbering in parentheses identifies where the specific language that is being corrected can be found in the March 26, 2002 SuperNOFA.

General Section of SuperNOFA [Page 13826]

HUD amends the List of HUD Field Offices in APPENDIX A-1 on page 13844 to show the correct address, phone and FAX numbers of all HUD Field Offices. The previous Appendix contained some inaccurate listings. (See page 13844).

Community Development Block Grants for Indian Tribes and Alaskan Native Villages [13907]

In the table on page 13915, under paragraph J of Section V (Application Selection Process), HUD corrects the number of points under Rating Factor 3, Subfactor 1 to read 14 points. HUD also corrects the number of points under Rating Factor 3, Subfactor (2) to read 5 points. Additionally, the entry “All Project Types” under “PROJECT TYPE” for Rating Factor 2 is erroneous and is removed.

Under Rating Factor 2 (Need/Extent of the Problem) on page 13916, HUD is revising paragraph (2) to add language with respect to the requirements for documenting persons employed by the project.

Paragraph (C)(6) of Section VI on page 13919 is removed, because it is not possible to award RC/EZ/EC bonus points under the Community Development Block Grants For Indian Tribes And Alaskan Native Villages program.

Community Outreach Partnership Centers (COPC) [Page 13927]

Section I on page 13929 is revised to add a new paragraph that sets out the appropriate address to which applications are to be mailed. The revision also corrects the caption and placement of some of the paragraphs in the section.

Paragraph (D) of Section IV (Program Requirements) is amended by adding a new sentence at the end of the paragraph to read “You should use HUD-3001 Community Outreach Partnership Centers Matching Requirements to show how you have met the match requirements.” (See page 13931).

Paragraph IV(D)(2)(b) (Outreach Activities) is amended by removing the last two sentences in the second paragraph and substituting the following sentence: “An example of how you should calculate match correctly, and Forms 30011 (New Directions) and 30012 (New Grants) are included in the Application Kit. The completed form should be included with your application.” (See page 13931).

Paragraph (C) of Section VI (Application Submission Requirements) is removed because the form is not required. The remaining paragraphs are redesignated accordingly. (See page 13935).

Historically Black Colleges and Universities (HBCU) [Page 13949]

HUD corrects the form number in paragraph (A)(3) of Section VI (Application Submission Requirements) to read SF-424D. (See page 13956).

Hispanic-Serving Institutions Assisting Communities (HSIAC) Program [13969]

In Section III(B) (Eligible Applicants) on page 13972, HUD adds an introductory sentence that clarifies the definition of an “Eligible Applicant.”

Alaska Native/Native Hawaiian Assisting Communities (AN/NHIAC) Program [13981]

In the Program Overview at page 13981, HUD extends the Application Deadline from June 20, 2002 to July 20, 2002. Consistent with the HUD Reform Act of 1989, this change permits NHIs with multiple campuses time to submit one application per campus, rather than being limited to submitting one application per institution. Similarly, in Section I (Application Due Date, Application Kits, Further Information, and Technical Assistance), page 19383, second column, last paragraph, HUD removes language that limits NHIs with multiple campuses from submitting more than one application per institution.

In Section III(B) (Eligible Applicants), on page 13984, HUD adds an introductory sentence that clarifies the definition of an “Eligible Applicant.”

Also in Section III(B), in the second paragraph, middle column, HUD corrects the first sentence of the paragraph to read “ If you are an NHI and your institution has multiple campuses, each one is eligible to apply separately, as long as it meets the above-described enrollment threshold. You may undertake as many projects and activities as you want, as long as you do not exceed the $600,000 cap for an application.” The remainder of the paragraph is removed.

Tribal Colleges and Universities Program [Page 13993]

In Section III(B) (Eligible Applicants) on page 13995, HUD adds an introductory sentence that clarifies the definition of an “Eligible Applicant.”

In paragraph (E)(3) of Section V (Application Submission Requirements) on page 13999, HUD corrects the number of factors for award to read five.

Lead-Based Paint Hazard Control Grant Program [Page 14065]

HUD amends paragraph B of Section IV (Program Requirements) to add a sentence at the end of the paragraph that reserves to HUD the right to approve no-cost time extensions for a period not to exceed 36 months. (See page 14070).

HUD amends paragraph (c)(ii) on page 14074 under Rating Factor 3 (Soundness of Approach) to correct the unit of measurement to read μg with respect to the standard for testing lead in dust.

Healthy Homes and Lead Technical Studies [Page 14091]

HUD amends Section V(A) (Submitting Applications for Grants) on page 14096 to remove the parenthetical phrase—“(e.g., 12 to 24 months from the date of award)”. (See page 14096, middle column, first full paragraph.)

HUD amends Section IV(E) (Period of Performance) by removing the existing language and substituting new language to read as follows: “Period of Performance. The period of performance is 36 months. HUD reserves the right to approve no-cost time extensions for up to an additional 3 years based upon the submission of adequate justification by the grantee.” (See page 14096).

Healthy Homes Demonstration Program [Page 14113]

HUD amends paragraph (B) (Period of Performance) of Section IV by removing the existing language and substituting new language to read as follows: “Period of Performance. The period of performance is 36 months. HUD reserves the right to approve no-cost time extensions for up to an additional 3 years based upon the submission of adequate justification by the grantee.” (See page 14117).

Youthbuild [Page 14163]

In Section VI (Application Selection Process), HUD amends paragraph (B)(3)(A)(ii) to remove the word “more” and substitute in its place “fewer.” (See page 14167).

Brownfields Economic Development Initiative (BEDI) [Page 14137]

On page 14147, first column, HUD amends paragraph (G)(4) of Section VI (Application Submission Requirements) to add the requirement that Form HUD 40122, Section 108 Loan Guarantee, State Certifications Related to Nonentitlement Entities be submitted to HUD as part of the BEDI application package, along with the requirement to submit Form HUD-40076-EDI/BEDI, Rating Factor 4: Leveraging Resources/Financial Need Sources and Uses Statement. The two Forms are added to Appendix A at pages 14154 and 14155.

Continuum of Care Homeless Assistance Programs [Page 14363]

On page 14364, middle column, HUD amends the final paragraph of Section II (Amount Allocated) to correct the reference to “FY 2003” to read “calendar year 2003”.

On page 14365, third column, Section III(A)(3) (Project Renewals), in line 7 of the first paragraph, HUD also is correcting the reference to “FY 2003” to read “calendar year 2003”.

Resident Opportunities and Self-Sufficiency (ROSS) Program [Page 14205]

HUD amends paragraph (C)(2)(iii) of Section II (Amount Allocated) on page 14208 to clarify the category and maximum amounts for which tribes are eligible. The amendment also makes clear that Tribes/TDHEs may serve a single tribal group.

In paragraph (3)(a)(i) (Maximum grant amount) of Section II (Amount Allocated) on page 14208, the reference to section III(e) is corrected to read II(C)(3)(e).

In paragraph (C)(3)(e) of Section II on page 14208, the reference to the fiscal year is corrected to read 2002, not 2001.

Paragraph (D)(1)(a) of Section III on page 14213 is corrected to add “and tribes/TDHEs” immediately after “(IROs)”.

In paragraph (ii) of Section (II)(C)(5), the introductory phrase is amended by removing the words “new and”. (See page 14209).

In Section V(D)(2) (Factors for Award Used to Evaluate and Rate HSS Applications) in the second sentence, HUD corrects a typographical error to change the maximum number of points available to read 102, not 1024 (See page 14221).

Paragraph (i) of Section II(C)(4) is amended to add “/or” immediately after “and” in the first sentence. (See page 14208).

Paragraph (E) (Number of Applications Permitted) of Section II is amended to add a new sentence before the last sentence in the paragraph to read as follows: “A PHA, RA, RO, or nonprofit may not submit an application to serve the same development.” (See page 14209).

In Section III (Program Description; Eligible Applicants; Eligible Activities) paragraph (F)(1) (Eligible Applicants) is amended by adding “/or” immediately after “and” and by adding “or participated” immediately after “participates”. Also in Section III, paragraph (F)(2)(a) is amended by adding “/or” immediately after “and” and by adding “or participated” immediately after “participates”. (See page 14215).

Paragraph (E)(2)(b) in Section VI (Application Submission Requirements) is revised to read “(b) and/or participates or participated in a public housing family self-sufficiency program funded from operating subsidies,” (See page 14229).

Section 202 Supportive Housing for the Elderly [Page 14375]

In Section I (Application Due Date, Application Kits, Further Information, and Technical Assistance), HUD corrects the first paragraph to provide that all mailed applications must be postmarked on or before midnight of June 5, 2002 and received by HUD within 15 days of the due date. (See page 14377).

Also in Section I, HUD is adding a paragraph 5 to state that “Applications for projects proposed to be located within the jurisdiction of the Grand Rapids, Michigan Office must be submitted to the Detroit, Michigan Office.” (See middle column, page 14377). Further, HUD is notifying applicants of address changes to several local HUD offices. See the Section 811 technical corrections involving page 14439 of the Section 811 program NOFA.

The Note at the end of Section III(D) (Ineligible Activities) is amended to clarify that existing Federally funded or assisted projects or projects insured or guaranteed by a Federal agency involving refinancing are not permissible activities under this Section 202 NOFA. This clarification is necessary because HUD does not consider it appropriate to utilize scarce program resources to refinance projects that have already received some form of assistance under a Federal program. For example, Section 202 or Section 202/8 direct loan projects cannot be refinanced with capital advances and project rental assistance. (See middle column, page 14383).

Section V(C) on page 14385, middle column, is amended to add Renewal Communities (RC) to the other two federally designated areas appearing in the section. Identical amendments are made to Section V(D), first column (see page 14386), Section V(D), Bonus Points, third column (see page 14387), and the Table of Contents in Appendix B (see page 14396). The reference in Section V(C), Section V(D) and in the Table of Contents in Appendix B now reads RC/EZ/EC, making it consistent with the reference used in Section III(C)(1) of the General Section of the SuperNOFA. (See page 13839). The amendment clarifies that projects that are located in an RC/EZ/EC area are eligible to receive the two bonus points in the rating of their application.

HUD amends paragraph (B)(7)(i) of Section VI (Application Submission Requirements) to correct the title of Form HUD-2990 to read Certification of Consistency with the RC/EZ/EC Strategic Plan (HUD-2990). (See page 14391).

In Section VI (Application Submission Requirements), paragraph (B)(4)(c)(iv) is amended to read “Describe your plan for getting your project to initial closing and start of construction within the initial 18-month term of the fund reservation (optional).” (See page 14389). In making the revision, HUD is not asking applicants to describe their plans to complete construction and finally close the project within the initial 18-month fund reservation term because HUD recognizes that such an event would be unlikely.

Under Rating Factor 3 (Soundness of Approach), paragraph (h) is amended to read “(-1 point) Your application did not include a plan for getting your project to initial closing and start of construction within the initial fund reservation period of 18-months.” (See page 14387). The amendment here is consistent with the change made to Section VI(B)(4)(c)(iv).

Paragraph (B)(4)(d)(i)(A) (pertaining to HUD's site control requirements) of Section VI (Application Submission Requirements) is amended to require a lease with a term of 50 years with renewable provisions for 25 years in cases where the form of site control is a leasehold. HUD recognizes that in some areas, applicants are unable to obtain a lease on sites for an initial term of 75 years due to, for example, state, local or tribal laws prohibiting such long-term leases. This restriction has the effect of excluding such sites from the Section 202 program. HUD has determined to make the change to require 50-year leases with renewable provisions for 25 years to expand the supply of housing for the elderly in those areas that otherwise would be denied the benefit of such housing.

In Appendix B, HUD corrects the Application Form needed to file your Section 202 application with HUD and replaces it with Form HUD-92015-CA, Supportive Housing for the Elderly, Section 202, Application for Capital Advance Summary Information. (See page 14397) This correction is necessary because Form HUD-92016-CA, Section 811, Application for Capital Advance Summary Information, which was inadvertently included in Appendix B of the Section 202 program NOFA, is not used in filing a Section 202 application.

Section 811 Supportive Housing for Persons With Disabilities [Page 14421]

In Section I (Application Due Date, Application Kits, Further Information, and Technical Assistance), HUD corrects the first paragraph to provide that all mailed applications must be postmarked on or before midnight of June 5, 2002 and received by HUD within 15 days of the due date. (See page 14423).

Also in Section I, HUD is adding a paragraph 5 to state that “Applications for projects proposed to be located within the jurisdiction of the Grand Rapids, Michigan Office must be submitted to the Detroit, Michigan Office”. (See middle column, page 14423). APPENDIX A: Local HUD Offices in the section captioned Notes similarly is amended to reflect the addition of paragraph 5 and corrections to addresses and/or telephone numbers of several local HUD Offices (listed as paragraph 6 in APPENDIX A). (See page 14439).

HUD amends the Fiscal Year 2002 Section 811 Allocations chart on page 14427 to add the following footnote to the Los Angeles Hub total (the footnote is indicated by an asterisk): “This amount includes $518,500 in capital advance authority to fund Therapeutic Living Centers for the Blind of West Hills, California. Since this 6-unit project was not selected in FY 2001 due to HUD error, the application will be funded from the FY 2002 allocation to the Los Angeles Office.”

The Note at the end of Section III(C) (Eligible Activities) is amended to clarify that existing Federally funded or assisted projects or projects insured or guaranteed by a Federal agency involving refinancing are not permissible activities under this Section 811 NOFA. This clarification is necessary because HUD does not consider it appropriate to utilize scarce program resources to refinance projects that have already received some form of assistance under a Federal program. For example, Section 202, Section 202/8, or 202/PAC direct loan projects cannot be refinanced with capital advances and project rental assistance. (See middle column, page 14428).

Section V(C) on page 14431 is amended to add Renewal Communities (RC) to the other two federally designated areas appearing in the section. Identical amendments are made to Section V(D), first column, (see page 14432), Section V(D), Bonus Points, third column, (see page 14433), and the Table of Contents in the Appendix to the NOFA (see page 14446). The reference in Section V(C), V(D), and in the Table of Contents in the Appendix now reads RC/EC/EZ, making it consistent with the reference used in Section III(C)(1) of the General Section of the SuperNOFA. (See page 13839). The amendment clarifies that projects that are located in an RC/EZ/EC area are eligible to receive the two bonus points in the rating of their application.

HUD amends paragraph (B)(7)(i) of Section VI (Application Submission Requirements) to correct the title of Form HUD-2990 to read Certification of Consistency with the RC/EZ/EC Strategic Plan (HUD-2990). (See page 14438).

Paragraph (B)(4)(c)(iv) in Section VI is amended to read “Describe your plan for getting your project to initial closing and start of construction within the initial 18-month term of the fund reservation (optional).” (See page 14435). The amendment makes it clear that HUD is not asking applicants to describe their plans to complete construction and finally close the project within the initial 18-month fund reservation term because HUD recognizes that such an event would be unlikely.

Under Rating Factor 3 (Soundness of Approach), paragraph (f) is amended to read “(-1 point) Your application did not include a plan for getting your project to initial closing and start of construction within the initial fund reservation period of 18-months.” (See page 14433). The amendment here is consistent with the change made to Section VI(B)(4)(c)(iv).

Paragraph (B)(4)(d)(i)(A) (pertaining to HUD's site control requirements) of Section VI(Application Submission Requirements) is amended to require a lease with a term of 50 years with renewable provisions for 25 years in cases where the applicant submits an application with site control and the form of site control is a leasehold. HUD recognizes that in some areas, applicants are unable to obtain a lease on sites for an initial term of 75 years due to, for example, state, local or tribal laws prohibiting such long-term leases. This restriction has the effect of excluding such sites from the Section 811 program. HUD has determined to make the change to require 50-year leases with renewable provisions for 25 years to expand the supply of housing for persons with disabilities in those areas that otherwise would be denied the benefit of such housing.

Accordingly, in the Super Notice of Funding Availability (SuperNOFA) for HUD's Discretionary Grant Programs for Fiscal Year 2002 [Docket No. FR-4723-N-01], beginning at 67 FR 13826, in the issue of Tuesday, March 26, 2002, the following corrections are made.

1. General Section of SuperNOFA, Beginning at 67 FR 13826

Appendix A-1 List of HUD Field Offices beginning on page 13844 and continuing through page 13859 is removed and replaced with a corrected Appendix A-1. List of HUD Field Offices.

BILLING CODE 4210-32-P

BILLING CODE 4210-32-C

2. Community Development Block Grants for Indian Tribes and Alaskan Native Villages, Beginning at 67 FR 13907

On page 13915, in the table under paragraph (J) (Factors for Award Used to Evaluate and Rate Applications), HUD makes the following corrections:

(a) the number of points under Rating Factor 3, Subfactor (1) is corrected to read 14.

(b) the number of points under Rating Factor 3, Subfactor (2) is corrected to read 5.

(c) Under the heading “Project Type”, for Rating Factor 2 the entry “All Project Types” is removed.

As corrected, the table now reads as follows:

Rating factor | Rating sub-factor | Points | Project type
1 | Total | 30 | Minimum of 15 Points Required.
| (1)(a) | 10 | All Project Types.
| (1)(b) | 5 or 7 | All Project Types.
| (1)(c) | 3 or 8* | All Project Types.
| (1)(d) | 2 or 5* | All Project Types.
| (2)(a) | 2 or 0* | All Project Types.
| (2)(b) | 2 or 0* | All Project Types.
| (2)(c) | 2 or 0* | All Project Types.
| (2)(d) | 2 or 0* | All Project Types.
| (2)(e) | 2 or 0* | All Project Types.
2 | Total | 20 |
| 1 | 5 | All Project Types.
| (2)(a) | 15 | Public Facilities and Improvements and Economic Development Projects.
| (2)(b) | 15 | New Housing Construction, Housing Rehabilitation, Land Acquisition to Support New Housing, and Homeownership Assistance Projects.
| (2)(c) | 15 | Microenterprise Programs.
3 | Total | 35 |
| (1) | 14 | All Project Types.
| (2) | 5 | All Project Types.
| (3) | 1 | All Project Types.
| (4)(a)(i) | 15 | Public Facilities and Improvements (tribe assumes O & M responsibilities).
| (4)(a)(ii) | 15 | Public Facilities and Improvements (entity other than tribe assumes O&M responsibilities).
| (4)(b) | 15 | New Housing Construction, Housing Rehabilitation, and Homeownership Assistance Projects.
| (4)(c) | 15 | Economic Development.
| (4)(d) | 15 | Microenterprise Programs.
| (4)(e) | 15 | Land Acquisition to Support New Housing.
4 | Total | 10 | All Project Types.
5 | Total | 5 | All Project Types.
Total Possible |  | 100 | Minimum of 70 Points Required.
* The first number listed indicates the maximum number of points available to current ICDBG grantees under this sub-factor. The second number indicates the maximum number of points available to new applicants.

On page 13916, under Rating Factor 2 (Need/Extent of the Problem), HUD adds the following language to the end of paragraph (2)—

For documenting persons employed by the project, you do not need to submit a demographic data certification and corresponding documentation. However, you do need to submit information that describes the nature of the jobs created or retained. Such information includes but is not limited to proposed job descriptions, salaries and the number of full-time equivalent positions. If you believe jobs will be retained as a result of the ICDBG project, include information that shows clearly and objectively, that jobs will be lost without the ICDBG project. Jobs that are retained only for the period of the grant will not count under this Rating Factor.

On page 13919, paragraph (C)(6) of Section VI (Application Submission Requirements) is removed.

On page 13919, existing paragraphs (C)(7) and (C)(8) of Section VI (Application Submission Requirements) are renumbered (C)(6) and (C)(7), respectively.

3. Community Outreach Partnership Centers (COPC), Beginning at 67 FR 13929

On page 13929, Section I, HUD corrects the caption (the text of the paragraph remains unchanged) that reads “Address for Submitting Applications” to read “Application Submission Procedures”.

On page 13929 in Section I (Application Due Date, Application Kits, Further Information, and Technical Assistance), HUD adds a new section to follow the paragraph captioned “Mailed Applications” to read as follows:

Address for Submitting Applications. Your completed application consists of one original and two copies of your application. Submit the original and two copies to the following address: Processing and Control Branch, Office of Community Planning and Development, Department of Housing and Urban Development, 451 Seventh Street, SW, Room 7251, Washington, DC, 20410. When submitting your application, please refer to the COPC program, and include your name, mailing address (including zip code) and telephone number (including area code).

On page 13931, HUD amends Section IV(D) (Match) by adding a new sentence at the end of the section to read as follows:

You should use HUD-30001 Community Outreach Partnership Centers Matching Requirements to show how you have met the match requirements.

On page 13931, HUD amends Section IV(D)(1)(b) by removing the last two sentences in the second paragraph and adding new language in their place. As amended, the new paragraph now reads:

(b) Outreach Activities. 35% of the total project costs of establishing and operating outreach activities.

In previous competitions, some applicants incorrectly based their match calculations on the Federal grant amount, not on the total project costs. An example of how you should calculate match correctly, and Forms 30011 (New Directions) and 30012 (New Grants) are included in the Application Kit. The completed form should be included with your application.

On page 13935, paragraph (C) (Application Checklist) of Section VI (Application Submission Requirements) is removed.

4. Historically Black Colleges and Universities (HBCU), Beginning at 67 FR 13951

On page 13956, in paragraph (A)(3) of Section VI (Application Submission Requirements), HUD corrects the form number to read SF-424D, Assurances for Construction Programs.

5. Hispanic-Serving Institutions Assisting Communities (HSIAC) Program, Beginning at 67 FR 13971

On page 13972, HUD amends Section III(B) (Eligible Applicants) by adding an introductory sentence to read as follows:

“Eligible applicants are public or private nonprofit institutions of higher education granting two- or four-year degrees and accredited by a national or regional accrediting agency recognized by the U.S. Department of Education.” With the addition of the sentence, paragraph (B) now reads as follows:

(B) Eligible Applicants. Eligible applicants are public or private nonprofit institutions of higher education granting two- or four-year degrees and accredited by a national or regional accrediting agency recognized by the U.S. Department of Education. Only if your institution is a nonprofit institution of higher education and meets the statutory definition of an HSI in Title V of the 1998 Amendments to the Higher Education Act of 1965 (Pub. L. 105-244) are you eligible to apply. In order for you to meet this definition, at least 25 percent of the full-time undergraduate students enrolled in your institution must be Hispanic and not less than 50 percent of these Hispanic students must be low-income individuals. You are not required to be on the list of eligible institutions prepared by the U.S. Department of Education. However, if you are not, you will be required to certify in the application that you meet the statutory definition. If you are one of several campuses of the same institution, you may apply separately from the other campuses as long as your campus has a separate administrative structure and budget from the other campuses. In addition, in order to fund as many different HSIs as possible, you can only apply if you did not receive an HSIAC grant in FY 2001. If you received an HSIAC grant in FY 2000, you may reapply as long as: (1) you propose an entirely new project for a different activity; (2) you propose a different project director; and (3) you have drawn down at least 75% of your previous grant by the application due date.

6. Alaska Native/Native Hawaiian Assisting Communities (AN/NHIAC) Program, Beginning at 67 FR 13983

On page 13983, HUD amends the paragraph entitled “Application Deadline” in the Program Overview Section to read as follows:

Application Deadline: July 20, 2002.

On page 13983, HUD amends Section I, second column, last paragraph, second sentence, to read as follows: “For ANIs, HUD only will accept one application per campus. Similarly, for NHIs HUD will only accept one application per campus.” HUD also removes the balance of this paragraph.

On page 13984, HUD amends Section III(B) by adding a new introductory sentence to read as follows: “Eligible applicants are public or private nonprofit institutions of higher education granting two- or four-year degrees and accredited by a national or regional accrediting agency recognized by the U.S. Department of Education.” Also, HUD corrects the first sentence in the second paragraph of Section III(B) to read as follows: “If you are an NHI and your institution has multiple campuses, each one is eligible to apply separately, as long as it meets the above-described enrollment threshold. You may undertake as many projects and activities as you want, as long as you do not exceed the $600,000 cap for an application.”

As amended, Section III(B) now reads as follows:

(B) Eligible Applicants. Eligible applicants are public or private nonprofit institutions of higher education granting two- or four-year degrees and accredited by a national or regional accrediting agency recognized by the U.S. Department of Education. Only if your institution is a nonprofit institution of higher education and meets the statutory definition of either an Alaska Native institution of higher education or a Native Hawaiian institution of higher education, as contained in Title III, Part A, Section 317 of the Higher Education Act of 1965, as amended by the Higher Education Amendments of 1998 (Pub. L. 105-244) are you eligible to apply. If you are an Alaska Native institution of higher education, in order for you to meet this definition, at least 20 percent of your undergraduate headcount enrollment must be Alaska Native students. If you are a Native Hawaiian institution of higher education, in order to meet this definition at least 10 percent of your undergraduate headcount enrollment must be Native Hawaiian students. You are not required to be on a list of eligible AN/NHIs prepared by the U.S. Department of Education. However, if you are not, you will be required to certify in the application that you meet the statutory definition. If you are an ANI and received a grant in FY 2001, you are not eligible to submit an application in FY 2002. If you are an NHI and received a grant in FY 2001, you are not permitted to submit an application for the same specific project in a different neighborhood, another project in the same neighborhood, or another project with the same project director as the project funded in FY 2001.

If you are an NHI and your institution has multiple campuses, each one is eligible to apply separately, as long as it meets the above-described enrollment threshold. You may undertake as many projects and activities as you want, as long as you do not exceed the $600,000 cap for an application.

7. Tribal Colleges and Universities Program, Beginning at 67 FR 13995

On page 13995, HUD amends Section III(B) by adding a new introductory sentence to read as follows:

“Eligible applicants are public or private nonprofit institutions of higher education granting two- or four-year degrees and accredited by a national or regional accrediting agency recognized by the U.S. Department of Education.” As amended, Section III(B) now reads as follows:

(B) Eligible Applicants. Eligible applicants are public or private nonprofit institutions of higher education granting two- or four-year degrees and accredited by a national or regional accrediting agency recognized by the U.S. Department of Education. Only if your institution is a nonprofit institution of higher education and meets the statutory definition of a TCU in Title III of the 1998 Amendments to the Higher Education Act of 1965 (Pub. L. 105-244) are you eligible to apply. If you are one of several campuses of the same institution, you may apply separately from the other campuses as long as your campus has a separate administrative structure and budget from the other campuses.

On page 13999, in paragraph (E)(3) of Section V (Application Submission Requirements), HUD corrects the number of factors for award to read five, instead of four. As amended, paragraph (E)(3) now reads as follows:

(3) Your narrative statement addressing the factors for award should address each of the five factors for award. (Please note that although submitting pages in excess of the page limit will not disqualify your application, HUD will not consider the information on any excess pages, which may result in a lower score or failure to meet a threshold.)

In addressing Factor 4, for each leveraging source, cash or in-kind, you must submit a letter, dated no earlier than the date of this NOFA, from the provider on the provider's letterhead that addresses the following:

8. Lead-Based Paint Hazard Control Grant Program, Beginning at 67 FR 14067

On page 14070, HUD amends Section IV(B) (Period of Performance) to add a sentence at the end of paragraph (B) to read as follows: HUD reserves the right to approve no-cost time extensions based upon the submission of adequate justification by the grantee. As amended, paragraph (B) now reads:

(B) Period of Performance. The period of performance is 36 months for first-time grant recipients. The period of performance for current and prior grantees is 30 months, except grantees receiving an award under a “Request for Renewal,” for which there is a 24-month period of performance. HUD reserves the right to approve no-cost time extensions for a period of up to 36 months based upon the submission of adequate justification by the grantee.

On page 14074, HUD amends paragraph (c)(ii) under Rating Factor 3 (Soundness of Approach) to correct the unit of measurement to read μg with respect to the standard for testing lead in dust. The corrected paragraph (c)(ii) now reads:

(ii) Describe your testing methods, schedule, and costs for performing blood lead testing, risk assessments, inspections and clearance examinations to be used. If you propose to use a more restrictive standard than the HUD/EPA thresholds (e.g., less than 0.5% or 1.0 mg/ square centimeter for lead in paint, or less than 40, 250, 400 μg/square foot for lead in dust on floors, sills and troughs respectively); or 400 ppm in bare soil in children's play areas and 1200 ppm for bare soil in the rest of the yard), identify the standard(s) that will be used. All testing shall be performed in accordance with applicable regulations.

9. Healthy Homes and Lead Technical Studies, Beginning at 67 FR 14093

On page 14096, HUD amends paragraph (E) (Period of Performance) of Section IV by removing the existing language and substituting new language. As amended, Section IV(E) now reads as follows:

(E) Period of Performance. The period of performance is 36 months. HUD reserves the right to approve no-cost time extensions for up to an additional 3 years based upon the submission of adequate justification by the grantee.

On page 14096, HUD amends Section V(A) (Submitting Applications for Grants) to remove the parenthetical phrase—“(e.g., 12 to 24 months from the date of award)”. (The parenthetical phrase appears in the fourth paragraph in Section V(A). As amended, Section (V)(A) now reads:

(A) Submitting Applications for Grants. Applications that meet all of the threshold requirements will be eligible to be scored and ranked, based on the total number of points allocated for each of the rating factors described below in Section V(B) of this program section of the SuperNOFA. Your application must receive a total score of at least 70 points to remain in consideration for funding.

Awards will be made separately in rank order for Healthy Homes Technical Studies applications and Lead Technical Studies applications, within the limits of funding availability for each program.

Within each of the two technical studies programs, you may address more than one of the technical study topic areas within your proposal (e.g., a HH technical studies applicant can address multiple topics consistent with the HHI program objectives), or submit separate applications for different topic areas. Projects need not address all of the objectives within a given topic area. While you will not be penalized for not addressing all of the specific objectives for a given topic area, if two applications for technical study in a given topic have equal scores, HUD will select the applicant whose project addresses the most objectives.

Regarding the amount to be awarded to the selected applicants, please refer to the Negotiations section in the General Section of the SuperNOFA.

Grants will be awarded in amounts ranging in size from $250,000 to $1 million. Final dollar amounts will be negotiated based upon the initial application submission, elimination of duplicative programs or activities based upon previously funded awards or selected applicants and ineligible activities.

10. Healthy Homes Demonstration Program, Beginning at 67 FR 14113

On page 14117, HUD amends paragraph (B) (Period of Performance) of Section IV by removing the existing language and substituting new language. As amended, Section IV(B) now reads as follows:

(B) Period of Performance. The period of performance is 36 months. HUD reserves the right to approve no-cost time extensions for up to an additional 3 years based upon the submission of adequate justification by the grantee.

11. Brownfields Economic Development Initiative (BEDI), Beginning at 67 FR 14137

HUD amends paragraph (G)(4) of Section VI (Application Submission Requirements) on page 14147, first column, to add the requirement that Form HUD 40122, Section 8 Loan Guarantee, State Certifications Related to Nonentitlement Entities be submitted to HUD as part of the BEDI application package, along with the requirement to submit Form HUD-40076-EDI/BEDI, Rating Factor 4: Leveraging Resources/Financial Need Sources and Uses Statement.

As amended, paragraph (G)(4) now reads:

(4) Rating Factor 4: Leveraging Resources. The response should include a completed copy of Form HUD-40076-EDI/BEDI, Rating Factor 4: Leveraging Resources/Financial Need Sources and Uses Statement and Form HUD 40122, Section 108 Loan Guarantee, State Certifications Related to Nonentitlement Entities.

At page 14154 of Appendix A, HUD adds Form HUD-40076-EDI/BEDI, Rating Factor 4: Leveraging Resources/Financial Need Sources and Uses Statement and at page 14155 Form HUD-40122, Section 108 Loan Guarantee, State Certifications Related to Nonentitlement Entities.

BILLING CODE 4210-32-P

BILLING CODE 4210-32-C

12. Youthbuild, Beginning at 67 FR 14165

On page 14167, HUD amends Section VI (Application Selection Process) paragraph (B)(3)(a)(ii) to remove the word “more” and substitute in its place “fewer.” As amended, paragraph (B)(3)(a)(ii) now reads:

(ii) A county with an urban population of 20,000 inhabitants or fewer.

13. Resident Opportunities and Self-Sufficiency (ROSS), Beginning at 67 FR 14207

On page 14208, HUD amends paragraph (C)(2)(iii) of Section II (Amount Allocated) to read as follows:

(iii) The maximum amounts for CB grants are: $100,000 for CWROs per applicant, and $240,000 per applicant for all other eligible applicants. Applicants are required to allocate at least two-thirds of the total grant to direct funding of CB activities for site-based RAs/ROs and/or tribal ROs. CWROs are required to serve a minimum of 3 RAs. All other applicants are required to serve a minimum of 10 RAs. Tribes/TDHEs may serve a single tribal group.

On page 14208, HUD amends paragraph (C)(3)(a)(i) to read as follows:

(i) Maximum grant amount. For RSDM, the maximum grant amounts are as follows: For PHAs applying for family grants, the maximum grant application award will be based on the number of occupied family conventional public housing units. Tribes/TDHEs applying for RSDM should refer to section II(C)(3)(e) of this NOFA for computation of units for the maximum grant amount.

On page 14208, HUD amends paragraph (C)(3)(e) of Section II to read as follows:

(e) Tribes/TDHEs should use the number of units counted as Formula Current Assisted Stock for Fiscal Year 2002 as defined in 24 CFR 1000.316. Tribes who have not previously received funds from the Department under the 1937 Housing Act should count housing units under management that are owned and operated by the Tribe and are identified in their housing inventory as of September 30, 2001 for either family or elderly/disabled units.

On page 14208, HUD amends paragraph (i) of Section II(C)(4) to read as follows:

(i) This funding category provides grants for a targeted group of public housing residents who were beneficiaries of previously awarded ROSS grants, and/or public housing Family Self-Sufficiency participants funded through operating subsidy. This funding category recognizes the improved earning capacity of residents participating in self-sufficiency programs and provides the support necessary to achieve increased opportunities for homeownership for public housing residents through housing choice vouchers. Under this funding category, PHAs will receive grants for counseling and other supportive services to achieve homeownership for public housing residents. PHAs will design and develop homeownership supportive services for public housing residents. These supportive services shall comprehensively address the needs identified by the PHA for public housing families to obtain homeownership.

On page 14209, HUD amends paragraph (ii) of Section II(C)(5) to read as follows:

(ii) To update and expand existing technology centers, PHAs must use the number of occupied conventional family public housing units to determine the maximum grant amount in accordance with the categories listed below for families:

—For PHAs with 1 to 780 occupied family units, the maximum grant award is $50,000.

—For PHAs with 781 to 7,300 occupied family units, the maximum grant award is $100,000.

—For PHAs with 7,301 or more occupied family units, the maximum grant award is $200,000.

On page 14209, HUD amends paragraph (E) of Section II to read as follows:

(E) Number of Applications Permitted. PHAs applying for Service Coordinator Renewal grants under this program section of the SuperNOFA may apply for one renewal grant and three additional grants in the NN, HSS and RSDM funding categories, but may not apply for more than one grant in any one funding category. RO applicants may submit a total of two applications for RMBD and RSDM, but not more than one application in any one funding category. Nonprofit applicants may submit a total of two applications for CB and RSDM, but not more than one application in any one funding category under this ROSS competition. A PHA, RA, RO, or nonprofit may not submit an application to serve the same development. Please read each funding category carefully for additional limitations.

On page 14213, HUD amends paragraph (D)(1)(a) in Section II to read as follows:

(D) Capacity Building.

(1) Eligible applicants. (a) Intermediary Resident Organizations (IROs) and tribes/TDHEs on behalf of public or Indian housing residents, which include Public Housing Site-Based Resident Councils, Resident Organizations and Resident Management Corporations, may apply for Capacity Building (CB) grants. IROs include National Resident Organizations, Statewide Resident Organizations, Regional Resident Organizations, City-Wide Resident Organizations, and Jurisdiction-Wide Resident Organizations.

On page 14215, HUD amends paragraphs (F)(1) and (F)(2)(a) of Section III(F) to read as follows:

(1) Eligible Applicants. This funding category provides grants to PHAs for homeownership supportive services for public housing residents that were recipients of previously awarded ROSS grants and/or participate or participated in the public housing Family Self Sufficiency Program funded from the operating fund. Tribes/TDHEs are not eligible applicants for HSS.

(2) Eligible participants and requirements. Program participants must meet all of the following conditions:

(a) This funding category is targeted to the population of public housing residents that were recipients/beneficiaries of previously awarded ROSS grants between FY 1999 and FY 2000, and/or participate or participated in the public housing Family Self Sufficiency Program funded from the operating fund.

On page 14221, HUD amends paragraph (2) of Section V(D) to read as follows:

(2) Factors for Award Used to Evaluate and Rate HSS Applications. The factors for rating and ranking applicants and maximum points for each factor are provided below. The maximum number of points available for this program is 102. This includes two RC/EZ/EC bonus points, as described in the General Section of the SuperNOFA. The application kit contains a certification that must be completed for the applicant to be considered for RC/EZ/EC bonus points and a listing of federally designated RCs, EZs and ECs. In addition, a list of RCs, EZs, and ECs is attached to the General Section of the SuperNOFA as Appendix A-2 and is also available from the SuperNOFA Information Center, and the HUD web site, www.hud.gov. A HSS application must receive a total of 70 points out of 100 to be eligible for funding.

On page14229, HUD amends paragraph (b) of Section VI(E)(2) to read as follows:

(b) and/or participates or participated in a public housing family self-sufficiency program funded from operating subsidies.

14. Continuum of Care Homeless Assistance Programs, Beginning at 67 FR 14363

On page 14364, HUD corrects the final paragraph in Section II (Amount Allocated) to read as follows:

Under the FY 2002 HUD Appropriations Act, eligible Shelter Plus Care Program grants whose terms are expiring in calendar year 2003 and Shelter Plus Care Program grants that have been extended beyond their original five-year terms but which are projected to run out of funds in calendar year 2003 will be renewed for one year provided that they are determined to be needed by the Continuum of Care as evidenced by their inclusion on the priority chart. These projects must also meet the applicant and sponsor eligibility and capacity requirements described in Section V(A)(1) of this NOFA. However, these S+C renewal projects will not count against a continuum's pro rata need amount. On the other hand, no S+C renewal adjustment will be made to a Continuum of Care's pro rata need amount since these projects are being funded outside of the competition. Please be advised that Shelter Plus Care renewal applications which are not submitted as part of either a “consolidated” or “associated” Continuum of Care application will not be considered as eligible for funding. (See Section VI for a description of the three options for submitting applications.)

On page 14365, HUD corrects the first paragraph of Section III(A)(3) (Project Renewals) to read as follows:

(3) Project renewals. If your Supportive Housing or Shelter Plus Care grant will be expiring in calendar year 2003, or if your Shelter Plus Care Program grant has been extended beyond its original five-year term and is projected to run out of funds in calendar year 2003, you must apply under this Continuum of Care program section of the SuperNOFA to get continued funding.

15. Section 202 Supportive Housing for the Elderly, Beginning at 67 FR 14377

On page 14377, HUD amends the first paragraph under the heading “Application Due Date” in Section I (Application Due Date, Application Kits, Further Information, and Technical Assistance) to read as follows:

Application Due Date. All mailed applications must be postmarked on or before midnight, local time, on June 5, 2002, and received by HUD within 15 days of the due date.

On page 14377, HUD amends Section I to add a new paragraph 5 under Address for Submitting Applications to read as follows:

5. Applications for projects proposed to be located within the jurisdiction of the Grand Rapids, Michigan Office must be submitted to the Detroit, Michigan Office.

On page 14383, middle column, the Note at the end of paragraph III(D) is amended to read as follows:

Note: You may propose to rehabilitate an existing currently owned or leased structure that may or may not already serve elderly persons, except that the refinancing of any Federally funded or assisted project or project insured or guaranteed by a Federal agency is not permissible under this Section 202 NOFA. HUD does not consider it appropriate to utilize scarce program resources to refinance projects that have already received some form of assistance under a Federal program. For example, Section 202 or Section 202/8 direct loan projects cannot be refinanced with capital advances and project rental assistance.

On page 14385, HUD amends the first paragraph of Section V(C) (Ranking and Selection Procedures) and Section V(D) (Factors for Award Used to Evaluate and Rate Applications) on pages 14386 and 14387 to read as follows:

(C) Ranking and Selection Procedures. Applications submitted in response to the advertised metropolitan allocations or nonmetropolitan allocations that have a total base score (without the addition of RC/EZ/EC bonus points) of 70 points or more and meet all of the applicable threshold requirements of Section II(B) of the General Section of the SuperNOFA will be eligible for selection, and HUD will place them in rank order per metropolitan or nonmetropolitan allocation. These applications, after adding any bonus points for RC/EZ/EC, will be selected based on rank order, up to and including the last application that can be funded out of each HUD office's metropolitan or nonmetropolitan allocation. HUD Offices must not skip over any applications in order to select one based on the funds remaining. After making the initial selections in each allocation area, however, HUD may use any residual funds to select the next rank-ordered application by reducing the number of units by no more than 10 percent, rounded to the nearest whole number, provided the reduction will not render the project infeasible. For this purpose, however, HUD will not reduce the number of units in projects of five units or less.

(D) Factors For Award Used To Evaluate and Rate Applications. HUD will rate applications that successfully complete technical processing using the Rating Factors set forth below and in accordance with the application submission requirements identified in Section VI(B) below. The maximum number of points an application may receive under this program is 102. This includes two RC/EZ/EC bonus points, as described in the General Section of the SuperNOFA.

On page 14387, paragraph (h) under Rating Factor 3 (Soundness of Approach) is amended to read as follows:

(h) (−1 point) Your application did not include a plan for getting your project to initial closing and start of construction within the initial fund reservation period of 18-months.

On page 14387, Bonus Points, which follows paragraph (e) under Rating Factor 5 (Coordination, Self Sufficiency and Sustainability) is amended to read as follows:

(2 bonus points) Location of proposed site in an RC/EZ/EC area, as described in the General Section of this SuperNOFA. Submit the information responding to the bonus points in accordance with the Application Submission Requirements in paragraph (B)(7)(i) of Section VI of this program section of the SuperNOFA.

On page 14389, HUD amends paragraph (B)(4)(c)(iv) of Section VI (Application Submission Requirements) to read as follows:

(4)(c)(iv) Describe your plan for getting your project to initial closing and start of construction within the initial 18-month term of the fund reservation (optional).

On page 14389, paragraph (4)(d)(i)(A) of Section VI(B), is amended to read as follows:

(A) Deed or long-term leasehold which evidences that you have title to or a leasehold interest in the site. If a leasehold, the term of the lease must be at least 50 years with renewable provisions for 25 years.

On page 14391, HUD corrects paragraph (7)(i) of Section VI(B) to read as follows:

(7)(i) Certification of Consistency with the RC/EZ/EC Strategic Plan (HUD-2990). A certification that the project is consistent with the RC/EZ/EC strategic plan, is located within the RC/EZ/EC, and serves RC/EZ/EC residents. (This certification is not required if the project site(s) will not be located in an RC/EZ/EC.)

On page 14396, Appendix B, Table of Contents, HUD amends item 7 (i) of the Table of Contents to read: “(i) Certification of Consistency with the RC/EZ/EC Strategic Plan (HUD-2990)”.

On page 14397, Appendix B, HUD replaces the Application for Capital Advance Summary Information form with Form HUD-92015-CA, Supportive Housing for the Elderly, Section 202, Application for Capital Advance Summary Information.

BILLING CODE 4210-32-P

BILLING CODE 4210-32-C

16. Section 811 Supportive Housing for Persons With Disabilities, Beginning at 67 FR 14423

On page 14423, HUD amends the first paragraph under the heading “Application Due Date” in Section I (Application Due Date, Application Kits, Further Information, and Technical Assistance) to read as follows:

Application Due Date. All mailed applications must be postmarked on or before midnight, local time, on June 5, 2002, and received by HUD within 15 days of the due date.

On page 14423, HUD amends Section I to add a new paragraph 5 under Address for Submitting Applications to read as follows:

5. Applications for projects proposed to be located within the jurisdiction of the Grand Rapids, Michigan Office must be submitted to the Detroit, Michigan Office.

On page 14427, HUD amends the chart labeled “Fiscal Year 2002 Allocations for Supportive Housing for Persons with Disabilities” by adding an asterisk (*) next to the entry for “Los Angeles Hub” with a footnote to read as follows:

* This amount includes $518,500 in capital advance authority to fund Therapeutic Living Centers for the Blind of West Hills, California. Since this 6-unit project was not selected in FY 2001 due to HUD error, the application will be funded from the FY 2002 allocation to the Los Angeles Office.

On page 14428, middle column, the Note at the end of Section III(C) is amended to read as follows:

Note: You may propose to rehabilitate an existing currently owned or leased structure that may or may not already serve persons with disabilities, except that the refinancing of any Federally funded or assisted project or project insured or guaranteed by a Federal agency is not permissible under this Section 811 NOFA. HUD does not consider it appropriate to utilize scarce program resources to refinance projects that have already received some form of assistance under a Federal program. (For example, Section 202, Section 202/8 or Section 202/PAC direct loan projects cannot be refinanced with capital advances and project rental assistance.)

On page 14431, HUD amends the first paragraph of Section V(C) (Ranking and Selection Procedures) and Section V(D) Factors for Award Used To Evaluate and Rate Applications to read as follows:

(C) Ranking and Selection Procedures. Applications that have a total base score of 70 points or more (without the addition of RC/EZ/EC bonus points) and meet all of the applicable threshold requirements of Section II(B) of the General Section of the SuperNOFA will be eligible for selection and will be placed in rank order. HUD will select applications, after adding any bonus points for RC/EZ/EC, based on rank order, up to and including the last application that can be funded out of each HUD Office's allocation. HUD Offices must not skip over any applications in order to select one based on the funds remaining. After making the initial selections, however, HUD may use any residual funds to select the next rank-ordered application by reducing the number of units by no more than 10 percent rounded to the nearest whole number, provided the reduction will not render the project infeasible. For this purpose, however, HUD will not reduce the number of units in projects of five units or less.

(D) Factors For Award Used To Evaluate and Rate Applications. HUD will rate applications that successfully complete technical processing using the Rating Factors set forth below and in accordance with the application submission requirements in Section VI(B) below. The maximum number of points an application may receive under this program is 102. This includes two (2) EZ/EC/RC bonus points, as described in the General Section of this SuperNOFA.

On page 14433, Bonus Points, which follows paragraph (f) under Rating Factor 5: (Coordination, Self-Sufficiency and Sustainability) is amended to read as follows:

(2 bonus points) Location of proposed site in an RC/EZ/EC area, as described in the General Section of this SuperNOFA. Submit the information responding to the bonus points in accordance with the Application Submission Requirements in paragraph (B)(7)(i) of Section VI of this program section of the SuperNOFA.

On page 14433, HUD amends paragraph (f) of Rating Factor 3 (Soundness of Approach) to read as follows:

(f) (−#1 point) Your application did not include a plan for getting your project to initial closing and start of construction within the initial fund reservation period of 18 months.

On page 14435, HUD amends paragraph (B)(4)(c)(iv) of Section VI (Application Submission Requirements) to read as follows:

(4)(c)(iv) Describe your plan for getting your project to initial closing and start of construction within the initial 18-month term of the fund reservation (optional).

On page 14435,paragraph (4)(d)(i)(A) of Section VI(B) is amended to read as follows:

(A) Deed or long-term leasehold which evidences that you have title to or a leasehold interest in the site. If a leasehold, the term of the lease must be at lease 50 years with renewable provisions for 25 years.

On page 14438, HUD corrects paragraph (7)(i) of Section VI(B) to read as follows:

(7)(i) Certification of Consistency with the RC/EZ/EC Strategic Plan (HUD-2990) A certification that the project is consistent with the RC/EZ/EC strategic plan, is located within the RC/EZ/EC, and serves RC/EZ/EC residents. (This certification is not required if the project site(s) will not be located in an RC/EZ/EC.)

On page 14439, APPENDIX A: LOCAL HUD OFFICES, HUD adds a new paragraph (6) under Notes to read as follows, and corrects the addresses for several local HUD Offices as indicated below:

(6) Applications for projects proposed to be located within the jurisdiction of the Grand Rapids, Michigan Office must be submitted to the Detroit, Michigan Office. HUD also corrects the addresses and/or telephone numbers of the following local HUD Offices:

HUD—Boston Hub

Manchester Office: Telephone number (603) 666-7510. The TTY number and address remain unchanged.

HUD—Baltimore Hub

Richmond Office: Third Floor, 600 East Broad Street, Richmond, VA 23219-1800. Telephone number (804) 771-2100, TTY number (804) 771-2038.

HUD—Atlanta Hub

Louisville Office: 601 West Broadway, Louisville, KY 40202. The telephone and TTY numbers remain unchanged.

HUD—Minneapolis Hub

Minneapolis Office: Suite 1300, 920 Second Avenue, South, Minneapolis, MN 55402-4012. The telephone and TTY numbers remain unchanged.

San Francisco Hub:

Honolulu Office: Suite 3A, 500 Ala Moana Boulevard, Honolulu, HI 96813. The telephone and TTY numbers remain unchanged.

Dated: May 14, 2002.
Vickers B. Meadows,
Assistant Secretary for Administration.

[FR Doc. 02-12599 Filed 5-17-02; 8:45 am]

BILLING CODE 4210-32-P